DEPARTMENT OF JUSTICE

Notice of Filing of Proposed Consent Decree Under the Clean Air Act

On December 19, 2013, a proposed Consent Decree was filed, on behalf of the United States and others, with the United States District Court for the Northern District of West Virginia in the proceeding captioned United States, et. al v. AL Solutions, Inc., Civil Action No. 5:13-cv-00169-FPS.

The proposed Consent Decree resolves allegations against AL Solutions, Inc. (“AL”) for violations of Section 112(r)(1) of the Clean Air Act, 42 U.S.C. 7412(r)(1), with respect to two of its titanium and zirconium processing facilities located in New Cumberland, WV and Washington, MO. Section 112(r)(1) imposes a general duty on owners and operators of stationary sources producing, processing, handling or storing “extremely hazardous substances” to, among other things, (i) identify hazards that may result from accidental releases of such substances, and (ii) design and maintain a safe facility.

The proposed Consent Decree applies to all of AL's facilities and requires, among other things, that AL assess the potential hazards associated with existing and future operations, and take measures to prevent accidental releases and minimize the consequences of releases that may occur. In addition, AL must use advanced monitoring technology, including hydrogen monitoring and infrared cameras, to assess hazardous chemical storage areas to prevent fires and explosions. AL must also process or dispose of approximately 10,000 drums of titanium and zirconium, or 2.4 million pounds, being stored at facilities in New Cumberland and Weirton, WV by December 2014 to reduce the risk of fire and explosion. The Consent Decree also requires that AL pay a civil penalty of $100,000, in nine installments over two years.

The publication of this notice opens a period for public comment on the proposed Consent Decree. Comments should be addressed to the Assistant Attorney General, Environment and Natural Resources Division, and should refer to United States, et. al v. AL Solutions, Inc., Civil Action No. 5:13-cv-00169-FPS, D.J. Ref. No. 90-5-2-1-10710. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Settlement Agreement may be examined and downloaded at this Justice Department Web site: http://www.usdoj.gov/enrd/Consent_Decrees.html. We will provide a paper copy of the proposed Settlement Agreement upon written request and payment of reproduction costs. Please mail your request and payment to: Consent Decree Library, U.S. DOJ—ENRD, P.O. Box 7611, Washington, DC 20044-7611.

Please enclose a check or money order for $3.50 (25 cents per page reproduction cost) payable to the United States Treasury.

Robert Brook,
Assistant Section Chief, Environmental Enforcement Section, Environment and Natural Resources Division.

[FR Doc. 2013-30722 Filed 12-24-13; 8:45 am]

BILLING CODE 4410-15-P